DEPARTMENT OF COMMERCE

Foreign-Trade Zones Board

[Docket 50-2011]

Foreign-Trade Zone 26—Atlanta, GA; Application for Manufacturing Authority; Makita Corporation of America (Hand-Held Power Tool and Gasoline/Electric-Powered Garden Product Manufacturing); Buford, GA

An application has been submitted to the Foreign-Trade Zones Board (the Board) by Georgia Foreign-Trade Zone, Inc., grantee of FTZ 26, requesting manufacturing authority on behalf of Makita Corporation of America (Makita), located in Buford, Georgia. The application was submitted pursuant to the provisions of the Foreign-Trade Zones Act, as amended (19 U.S.C. 81a-81u), and the regulations of the Board (15 CFR part 400). It was formally filed on July 26, 2011.

The Makita facility (300 employees, 75 acres, up to 3 million units per year capacity) is located within Site 20 of FTZ 26. The facility is used for the manufacture of hand-held power tools and gasoline/electric-powered garden products. Components and materials sourced from abroad (representing 64% of the value of the finished product) include: batteries; armatures; tool bags; driver, hammer and angle drills; chargers; flashlights; gears, housings, clutches and gear shafts; radios; grips, thumb screws, knobs and handles; wrenches; switch units; power cords; flanges; screws; nuts and bolts; rubber rings, sleeves, grommets and plates; screws; ball bearings; battery covers and lenses; grease, lubricants and additives; felt rings; lock springs; lead wire assemblies; needle cages; drill bits; socket wrenches; styrene polymers; polyamides; resins; caulk; glues and adhesives; vinyl cases; vinyl tubes; labels; plastic bags; water tanks; plastic grips; rubber knobs and handles; plastic cases; dust bag assemblies; tool belts; grinding wheels; tapping screws; lock lever connectors; cotters and cotter pins; lock and spring pins; cup washers; set plates; safety wires; pipe clamps; copper nozzles; aluminum miter scales; caps, switch covers, throttle levers and pipe ends; safety guard assemblies; bearing boxes; steel balls; bearing housings and bushings; pulleys; joints; DC motors; heat sinks and spacers; coils; electrical outlets; electrical switches; switch levers; safety goggles; lighting assemblies; and ribbon (duty rate ranges from duty free to 20%). The application also requests authority to include a broad range of inputs and finished hand-held power tools and gasoline/electric-powered garden products that Makita may produce under FTZ procedures in the future. New major activity involving these inputs/products would require review by the FTZ Board.

FTZ procedures could exempt Makita from customs duty payments on the foreign components used in export production. The company anticipates that some 47 percent of the plant's shipments will be exported. On its domestic sales, Makita would be able to choose for the foreign inputs noted above the duty rates during customs entry procedures that apply to: Engine blowers; pneumatic compressors; pneumatic tools; table, slide and compound miter saws; drills and drill kits; drill and saw kits; drill, grinder, hammer, sander, planer, router and screw driver kits; gasoline/electric-powered brush cutters; and hedge trimmers (duty free—4.5%). FTZ designation would further allow Makita to realize logistical benefits through the use of weekly customs entry procedures. Customs duties also could possibly be deferred or reduced on foreign status production equipment. The request indicates that the savings from FTZ procedures would help improve the plant's international competitiveness.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is September 30, 2011. Rebuttal comments in response to material submitted during the foregoing period may be submitted during the subsequent 15-day period to October 17, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Christopher Kemp at Christopher.Kemp@trade.gov or (202) 482-0862.

Dated: July 26, 2011.
Andrew McGilvray,
Executive Secretary.

[FR Doc. 2011-19405 Filed 7-29-11; 8:45 am]

BILLING CODE 3510-DS-P